DEPARTMENT OF HEALTH AND HUMAN SERVICES

Announcement of Cooperative Agreement With Morehouse School of Medicine

AGENCY: Department of Health and Human Services, Office of the Secretary, Office of Public Health and Science, Office of Minority Health.

ACTION: Notice.

Funding Title: Cooperative Agreement with Morehouse School of Medicine.

Announcement Type: Initial Announcement.

Catalog of Federal Domestic Assistance Number: 93.004.

DATES: July 1, 2006.

SUMMARY: This announcement is made by the United States Department of Health and Human Services (HHS or Department), Office of Minority Health (OMH) located within the Office of Public Health and Science (OPHS), and working in a “One-Department” approach collaboratively with participating HHS agencies and programs (entities). The mission of the OMH is to improve the health of racial and ethnic minority populations through the development of policies and programs that address disparities and gaps. OMH serves as the focal point in the HHS for leadership, policy development and coordination, service demonstrations, information exchange, coalition and partnership building, and relation efforts to address the health need of racial and ethnic minorities. This announcement supports the Healthy People 2010 overarching goal to eliminate health disparities.

As part of a continuing HHS effort to improve the health and well being of racial and ethnic minorities, the Department announces a sole source umbrella cooperative agreement award to the Morehouse School of Medicine.

SUPPLEMENTARY INFORMATION:

Authority: This program is authorized under 42 U.S.C. 300 u-6, section 1707 of the Public Health Service Act, as amended.

1. Recipient: Morehouse School of Medicine.

2. Purpose of the Award: To strengthen the nation's capacity to prepare health professionals to serve minority populations and to address the elimination of racial/ethnic health disparities. The ultimate goal is to improve the health status of minorities and disadvantaged people and increase the diversity of the health-related workforce.

3. Amount of Award: $400,000 for the initial project.

4. Project Period: Umbrella Cooperative Agreement: 4 years (July 1, 2006-June 30, 2010); Project: 1 year (July 1, 2006-June 30, 2007).

5. Justification: Morehouse School of Medicine (MSM) is a historically black institution established to recruit and train minority and other students as physicians, biomedical scientists, and public health professionals committed to the primary healthcare needs of the underserved.

—MSM has the only legislatively mandated National Center for Primary Care in the United States. MSM, through its National Center for Primary Care, conducts training programs, quality improvement programs, and real-world practice-based research in partnership with approximately 150 community and migrant health centers in eight Southeastern states.

—MSM maintains the leading faculty development program in the nation for preparing African American faculty for U.S. medical schools and primary care residency training programs.

—MSM established an infrastructure throughout the South to address the impact of natural disasters in minority communities. In FY 2005, MSM received $5 million in HHS support to develop a strategic response infrastructure between Centers of Excellence in Partnerships for Community Outreach, Research on Health Disparities and Training (EXPORT Centers), community health centers, and primary care practices. In addition, MSM has also exemplified leadership in addressing mental health needs via telemedicine and has created electronic health records for patients affected by recent hurricanes.

—The nation currently faces a shortage of primary care physicians, with more physicians approaching retirement and fewer graduating medical students entering into primary care. A collaboration with MSM, which is the leading school in the nation for graduates remaining in primary care practices, will help increase the number of students entering into primary care.

—Eighty-four percent of MSM M.D. graduates practice in medically underserved areas.

6. MSM Responsibilities and Activities: MSM will focus on enhancing faculty and leadership development through cultivating diverse research investigators. MSM will also develop a non-traditional pipeline approach involving a network of academic/community partnerships to guide students from underserved communities into careers in the health professions, focusing on the mission of eliminating health disparities. As the recipient of an umbrella cooperative agreement, it is expected that MSM will also implement and manage additional projects that will assist in fostering partnerships with the nation's minority-serving health professions schools to: support faculty in residency programs, meet the challenges of providing academic opportunity for disadvantaged students, and improve health care services in underserved communities.

Sample activities can include:

Conducting workshops for faculty from other minority-serving health professions schools;

Increasing the number of faculty researchers from minority-serving health professions schools participating in collaborative research on health disparities or data re-use agreements;

Engaging junior or mid-career faculty in career development/scholarly support, including mentoring and technical assistance;

Working with academic institutions, community-based practitioners, and health centers to create feeder programs by which students participate in health professional career paths at the local level and are then placed in summer programs at the medical school; and Building partnerships between community-based organizations, local school districts, and health professions schools so that the programs of each entity create a continuum of experiences for students interested in pursuing health careers.

In addition, anticipated project results are to be consistent with the overall Program purpose. Project results should fall within the following general categories:

Recruiting and training health professionals to serve underserved and minority communities.

Increasing knowledge and awareness of minority health care issues.

Increasing access.

Changing behavior and utilization.

Mobilizing communities, coalitions, and networks.

Policy Research.

7. OMH Expectations: It is intended that the Umbrella Cooperative Agreement with Morehouse School of Medicine will ultimately result in:

Increased interest of youth from underserved communities in pursuing careers in the health arena.

Increased number of individuals from underserved communities recruited and trained for careers in health fields.

Increased number of faculty researchers who can influence the national conversation on health disparities and become leaders in academic scholarship.

It is intended that the initial, one-year project will result in:

Identification of partners and development of specific elements that will contribute towards the development and cultivation of diverse research investigator scholars who can influence the national conversation on health disparities and become leaders in academic scholarship.

Identification of partners and development of specific elements for developing and cultivating networks to feed the pipeline of students entering the health professions to serve minority populations and address health disparities.

8. OMH Responsibilities and Activities: At a minimum, substantial federal programmatic involvement will include the following:

Participation in the design and direction of the activities.

Review and approval of each stage of a project prior to beginning a subsequent stage.

Approval of evaluation plans/tools.

Evaluation of progress through ongoing communication, reports, site visits, etc.

9. Name and address of awarding office official to be contacted for further information: For questions related to the Cooperative Agreement with Morehouse School of Medicine, contact Ms. Cynthia Amis, Director, Division of Program Operations, Office of Minority Health, Tower Building, Suite 600, 1101 Wootton Parkway, Rockville, MD 20852. Ms. Amis can be reached by telephone at (240) 453-8444.

Dated: May 31, 2006.
Garth N. Graham,
Deputy Assistant Secretary for Minority Health.

[FR Doc. E6-9036 Filed 6-9-06; 8:45 am]

BILLING CODE 4150-29-P